DEPARTMENT OF COMMERCE

Economic Development Administration

[Docket No.: 080305376-8378-01]

Solicitation of Applications for the National Technical Assistance, Training, Research and Evaluation Program: Economic Development Research Projects

AGENCY: Economic Development Administration, Department of Commerce.

ACTION: Notice and request for applications.

SUMMARY: The Economic Development Administration (EDA) is soliciting applications for FY 2008 National Technical Assistance, Training, Research and Evaluation program (NTA Program) funding. Through this notice, EDA solicits applications for funding that address one or more of the following three research projects: (1) Regional innovation systems; (2) urban economic development policy; and (3) global economic development strategy. EDA's mission is to lead the federal economic development agenda by promoting innovation and competitiveness, preparing American regions for growth and success in the worldwide economy. Through its NTA Program, EDA works towards fulfilling its mission by funding research and technical assistance projects to promote competitiveness and innovation in rural and urban regions throughout the United States and its territories. By working in conjunction with its research partners, EDA will help States, local governments, and community-based organizations to achieve their highest economic potential.

DATES: To be considered timely, a completed application, regardless of the format in which it is submitted, must be either: (1) Received by the EDA representative listed below under “Paper Submissions” no later than May 9, 2008 at 5 p.m. Eastern Daylight Time (EDT); (2) transmitted and time-stamped at www.grants.gov no later than May 9, 2008 at 5 p.m. EDT; or (3) electronically transmitted to the e-mail address of the Program Officer given below under “Electronic Submissions” no later than May 9, 2008 at 5 p.m. EDT. Any application received or transmitted, as the case may be, after 5 p.m. EDT on May 9, 2008 will be considered non-responsive and will not be considered for funding. Please see the instructions below under “Application Submission Requirements” for information regarding format options for submitting completed applications. By June 9, 2008, EDA expects to notify the applicants selected for investment assistance under this notice. The selected applicants should expect to receive funding for their projects within thirty days of EDA's notification of selection.

Applicants choosing to submit completed applications electronically in whole or in part through www.grants.gov should follow the instructions set out below under “Electronic Access” and in section IV. of the complete Federal Funding Opportunity (FFO) announcement for this request for applications.

Application Submission Requirements: Applicants are advised to carefully read the instructions contained in section IV. of the complete FFO announcement for this request for applications. For a copy of the FFO announcement, please see the websites listed below under “Electronic Access.”

Applications may be submitted in two formats: (i) In paper format at the addresses provided below; or (ii) electronically in accordance with the procedures provided on www.grants.gov or submitted via e-mail to the address provided below in “Electronic Submissions.” EDA will not accept facsimile transmissions of applications. The content of the application is the same for paper submissions as it is for electronic submissions. A complete application must contain all the items listed in the “Application Checklist,” which can be found in section IV.C.2. of the complete FFO announcement.

You may obtain paper application packages by contacting the designated point of contact listed below under FOR FURTHER INFORMATION CONTACT.” Applicants applying electronically through www.grants.gov may access the application package by following the instructions provided on www.grants.gov. Additionally, the following application forms may be accessed and downloaded as follows: (i) Form ED-900A, Application for Investment Assistance, at http://www.eda.gov/InvestmentsGrants/Application.xml; (ii) Standard Forms (SF) at http://www.grants.gov or at http://www.eda.gov/InvestmentsGrants/Application.xml; and (iii) Department of Commerce (CD) forms at http://www.doc.gov/forms.

Paper Submissions: Full or partial paper (hardcopy) applications submitted under the NTA program may be hand-delivered or mailed to: FY 2008 Economic Development Research Projects Competition, William P. Kittredge, Ph.D., Program Officer, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service.

Electronic Submissions: Applicants have two options for submitting electronically: through www.grants.gov or via e-mail. Applicants may submit applications electronically in whole or in part in accordance with the instructions provided at www.grants.gov and in section IV.B. of the applicable FFO announcement. EDA strongly encourages that applicants not wait until the application closing date to begin the application process through www.grants.gov. Applicants also may submit full or partial paper applications by e-mail. Completed applications may be e-mailed to William P. Kittredge, Ph.D., Program Officer, at wkittredge@eda.doc.gov. The preferred file format for electronic attachments (e.g., the project narrative and additional exhibits to Form ED-900A and Form ED-900A's program-specific component) is portable document format (PDF); however, EDA will accept electronic files in Microsoft Word, WordPerfect, Lotus or Excel formats.

FOR FURTHER INFORMATION CONTACT: For additional information on the NTA Program or to obtain paper application packages for this notice, please contact William P. Kittredge, Ph.D., Program Officer, via e-mail at wkittredge@eda.doc.gov (preferred) or by telephone at (202) 482-5442.

For additional information regarding electronic submissions, please access the following link for assistance in navigating www.grants.gov and for a list of useful resources: http://www.grants.gov/applicants/applicant_help.jsp. If you do not find an answer to your question under Frequently Asked Questions, try consulting the Applicant's User Guide. If you still cannot find an answer to your question, contact www.grants.gov via e-mail at support@grants.gov or telephone at 1-800-518-4726. The hours of operation for www.grants.gov are Monday-Friday, 7 a.m. to 9 p.m. EDT (except for Federal holidays).

Additional information about EDA and its NTA Program may be obtained from EDA's Internet Web site at http://www.eda.gov. The complete FFO announcement for this request for applications is available at www.grants.gov and at http://www.eda.gov.

SUPPLEMENTARY INFORMATION: Background Information: EDA is soliciting applications for FY 2008 NTA Program funding. Through this notice, EDA solicits applications for funding that address one or more of the following three research projects: (1) Regional innovation systems; (2) urban economic development policy; and (3) global economic development strategy. EDA's intent is to create practitioner-accessible tools that can be used to bring the best current thinking to bear on specific problems. As described in the complete FFO announcement, deliverables for each of the three projects vary. For the first research project on regional innovation systems, there are four deliverables: (1) A comparative analysis; (2) a practitioner-accessible report; (3) a practical asset mapping guide; and (4) production of a practitioner-accessible report or equivalent document that presents findings in a visually appealing format. For the second research project on urban economic development policy, there are three deliverables: (1) creation of a classification and analytical methodology; (2) implementation of the methodology using a statistically significant sample of economic regions; and (3) production of a practitioner-accessible report or equivalent document that presents findings in a visually appealing format. For the third research project on global economic development strategy, there are five deliverables: (1) Development of an analytical method; (2) application of the method to a statistically significant sample of U.S. metropolitan regions; (3) identification of best practices throughout the sampled regions; (4) production of a report describing research findings; and (5) production of a practitioner-accessible report or equivalent document that presents findings in a visually appealing format. Please see the FFO for this request for applications for more detailed information on each report and the required deliverables.

Any information disseminated to the public under this request for applications is subject to the Information Quality Act (Pub. L. 106-554). Applicants are required to comply with the Information Quality Guidelines issued by EDA pursuant to the Information Quality Act, which are designed to ensure and maximize the quality, objectivity, utility and integrity of information disseminated by EDA. These guidelines are available on EDA's Web site at http://www.eda.gov.

Electronic Access: The complete FFO announcement for the FY 2008 Economic Development Research Projects competition is available at www.grants.gov and at http://www.eda.gov/InvestmentsGrants/FFON.xml.

Funding Availability: EDA may use funds appropriated under the FY 2008 Consolidated Appropriations Act (Pub. L. 110-161, 121 Stat. 1844 (2007)) to make awards under the NTA Program authorized by the Public Works and Economic Development Act of 1965, as amended (42 U.S.C. 3121 et seq.) (PWEDA). Approximately $1,500,000 is available, and shall remain available until expended, for funding awards under the NTA Program in FY 2008, including $470,000 in FY 2008 appropriations for economic development research. The FFO announcement for this request for applications is the second of two FFO announcements under the NTA Program. Based on recent past awards for projects similar to the projects solicited under this competitive solicitation, the range of funding awards has been from $100,000 to $350,000 for each project. EDA anticipates that the regional innovation systems project described above will be closer to the upper range ($350,000), and the urban economic development policy and global economic development strategy projects will be closer to the lower range ($100,000-$175,000).

Statutory Authority: The authority for the NTA Program is PWEDA. The specific authority for the Economic Development Research Projects Program is section 207 of PWEDA (42 U.S.C. 3147), which authorizes EDA to make grants for grants for training, research, and technical assistance. EDA's regulations at 13 CFR parts 300-302 and subpart A of 13 CFR part 306 set forth the general and specific regulatory requirements applicable to the NTA Program.

EDA's regulations are codified at 13 CFR chapter III. The regulations and PWEDA are accessible on EDA's Internet Web site at http://www.eda.gov/InvestmentsGrants/Lawsreg.xml.

Catalog of Federal Domestic Assistance (CFDA) Numbers: 11.303, Economic Development—Technical Assistance; 11.312, Economic Development—Research and Evaluation.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association. Although for-profit, private-sector entities generally do not qualify for investment assistance under PWEDA, under its NTA Program, EDA may make an award to a for-profit organization to carry out specific research or for other purposes set forth in 13 CFR 306.1. See also 42 U.S.C. 3147.

Project Period: Typically, EDA gives a recipient one year from the award date to complete the scope of work, which consists of research and associated research activities, composing the resulting report, and presenting the report to EDA senior management. A typical research project period begins with an initial meeting between the recipient and EDA staff to ensure that all parties agree with the project terms. After the initial meeting, the recipient generally submits a final work plan to EDA staff for review and approval. Throughout the project period there will be regular contact between EDA staff and the recipient for updates on project progress. Also, interim progress reports are required throughout the project period. The schedule of interim progress reports will be determined subsequent to award.

Typically, the recipient submits a draft research report to EDA at least 90 days before the end of the project period for EDA's review. If the draft research report is approved, EDA will approve publication of a final research report, and the recipient will brief EDA senior management on research methods and report results.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project (i) merits and is not otherwise feasible without an increase to the EDA investment rate; or (ii) will be of no or only incidental benefit to the recipient. See section 204(c)(3) of PWEDA (42 U.S.C. 3144) and 13 CFR 301.4(b)(4).

EDA will consider the nature of the contribution (cash or in-kind), the amount of any matching share funds, and fairly assess any in-kind contributions in evaluating the cost to the Government and the feasibility of the project budget (see the “Evaluation Criteria” section below). While cash contributions are preferred, in-kind contributions, fairly evaluated by EDA, may provide the non-federal share of the total project cost. See section 204(b) of PWEDA (42 U.S.C. 3144) and section III.B. of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications under the NTA Program are not subject to Executive Order 12372, “Intergovernmental Review of Federal Programs.”

Evaluation and Selection Procedures: To apply for an award under this request for applications, an eligible applicant must submit a completed application package to EDA before the closing date and time specified in the “Dates” section of this notice, and in the manner provided in section IV. of the applicable FFO announcement. Any application received or transmitted, as the case may be, after 5 p.m. EDT on May 9, 2008 will not be considered for funding. Applications that do not include all items required or that exceed the page limitations set forth in section IV.C. of the FFO announcement will be considered non-responsive and will not be considered by the review panel. By June 9, 2008, EDA expects to notify the applicants selected for investment assistance under this notice. Unsuccessful applicants will be notified by postal mail that their applications were not selected for funding. Applications that meet all the requirements will be evaluated by a review panel comprised of at least three EDA staff members, all of whom will be full-time Federal employees.

Evaluation Criteria: The review panel will evaluate the applications and rate and rank them using the following criteria of approximate equal weight:

(1) Conformance with EDA's statutory and regulatory requirements, including the extent to which the proposed project satisfies the award requirements set out below and as provided in 13 CFR 306.2:

• Strengthens the capacity of local, State, or national organizations and institutions to undertake and promote effective economic development programs targeted to regions of distress;

• Benefits distressed regions; and

• Demonstrates innovative approaches to stimulate economic development in distressed regions.

(2) The degree to which an EDA investment will have strong organizational leadership, relevant project management experience, and a significant commitment of human resources talent to ensure the project's successful execution (see 13 CFR 301.8(b)).

(3) The ability of the applicant to implement the proposed project successfully (see 13 CFR 301.8).

(4) The feasibility of the budget presented.

(5) The cost to the Federal Government.

Also, the addition of research and project data to an existing website or the design of a companion website designed to disseminate research results and provide links to data encapsulated in the report free of charge is preferred.

Selection Factors: The Assistant Secretary, as the Selecting Official, expects to fund the highest ranking applications, as recommended by the review panel, submitted under this request for applications. However, if EDA does not receive satisfactory applications, the Assistant Secretary may not make any selection. Depending on the quality of the applications received, the Assistant Secretary may select more than one application for one research project and make no selection for another research project. Also, he may select an application out of rank order for the following reasons: (1) A determination that the selected application better meets the overall objectives of sections 2 and 207 of PWEDA (42 U.S.C. 3121 and 3147); (2) the applicant's performance under previous awards; or (3) the availability of funding.

The Department of Commerce Pre-Award Notification Requirements for Grants and Cooperative Agreements

Administrative and national policy requirements for all Department of Commerce awards are contained in the Department of Commerce Pre-Award Notification Requirements for Grants and Cooperative Agreements, published in the Federal Register on February 11, 2008 (73 FR 7696). This notice may be accessed through the Federal Register Internet Web site at http://www.gpoaccess.gov/fr/retrieve.html, making sure the radial button for the correct Federal Register volume is selected (here, 2008 Federal Register, Vol. 73), entering the Federal Register page number provided in the previous sentence (7696), and clicking the “Submit” button.

Paperwork Reduction Act

This request for applications contains collections of information subject to the requirements of the Paperwork Reduction Act (PRA). The Office of Management and Budget (OMB) has approved the use of Form ED-900A (Application for Investment Assistance) under control number 0610-0094. Form ED-900A's program-specific component (National Technical Assistance, Training, and Research and Evaluation Program Requirements) also is approved under OMB control number 0610-0094, and incorporates Forms SF-424A (Budget Information—Non-Construction Programs, OMB control number 0348-0044) and SF-424B (Assurances—Non-Construction Programs, OMB control number 0348-0040). OMB has approved the use of Form SF-424 (Application for Financial Assistance) under control number 4040-0004. Notwithstanding any other provision of law, no person is required to respond to, nor shall any person be subject to a penalty for failure to comply with, a collection of information subject to the requirements of the PRA unless the collection of information displays a currently valid OMB control number.

Executive Order 12866

This notice has been determined to be not significant for purposes of Executive Order 12866, “Regulatory Planning and Review.”

Executive Order 13132

It has been determined that this notice does not contain “policies that have Federalism implications,” as that phrase is defined in Executive Order 13132, “Federalism.”

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 10, 2008.
Benjamin Erulkar,
Deputy Assistant Secretary of Commerce for Economic Development and Chief Operating Officer.

[FR Doc. E8-5190 Filed 3-13-08; 8:45 am]

BILLING CODE 3510-24-P